NEIGHBORHOOD REINVESTMENT CORPORATION

Sunshine Act Meetings

TIME AND DATE: 2:00 p.m., Thursday, June 22, 2023.

PLACE: 1255 Union Street NE, Fifth Floor, Washington, DC 20002.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b (c)(2) and (4) permit closure of the following portion(s) of this meeting:

• Executive Session

Agenda

I. Call to Order

II. Sunshine Act Approval of Executive (Closed) Session

III. Executive Session: Report from CEO

IV. Executive Session: Report from CFO

V. Executive Session: General Counsel Report

VI. Executive Session: NeighborWorks Compass Update

VII. Executive Session: Officer Compensation Review

VIII. Action Item Board Elections

(i) Election of Board Chair and Board Vice-Chair

IX. Action Item Board Appointments

(i) Appointment of Audit Committee

X. Action Item Management Elections

(i) Election of Officers & Chief Audit

XI. Action Item Approval of Minutes

XII. Action Item Approval of the FY2022 External Audit

XIII. Action Item Grants to the Capital Corporations

XIV. Action Item Increase of Contract Authority for IT&S Technical Contract

XV. Action Item Expanded Spending Authority for Large Events

XVI. Discussion Item May 23, 2023 Audit Committee Meeting Report

XVII. Discussion Item Annual Ethics Review

XVIII. Discussion Item Governance Operations Guide Annual Review

XIX. Discussion Item CIO Report

XX. Discussion Item Laptop Purchases

XXI. Management Program Background and Updates

XXII. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2023-12891 Filed 6-13-23; 4:15 pm]

BILLING CODE 7570-02-P